DEPARTMENT OF STATE

[Public Notice 3431]

Bureau of European Affairs; U.S. Bilateral Assistance to Bosnia and Serbia

The Secretary of State issued on March 15, 2000, a waiver of restrictions under Section 566 of the Foreign Operations, Export Financing and Related Programs Appropriations Act, 2000, for bilateral assistance to the Republika Srpska (RS) and Serbia (excluding Kosovo), as follows:

(1) In the Republika Srpska:— support for civilian police restructuring; USAID and State public diplomacy programs promoting democratization, reconciliation, and free and independent media; the Community Reintegration and Stabilization Project of USAID, as well as its Bosnia Business Development, Economic Reform and Democratic Reform Programs; OSCE-supervised elections and human rights activities; and Trade and Development Agency (TDA) activities designed to assist U.S. businesses in Bosnia. The municipalities of Foca, Pale, and Prijedor are excluded from this waiver, because competent authorities have failed to take necessary and significant steps to apprehend and transfer war crimes indictees to the International Criminal Tribunal for the Former Yugoslavia. These municipalities will not be eligible for new U.S. assistance.

(2) In Serbia: State public diplomacy and USAID programs to support democratic reform, including free and independent media and labor; economic reform and other advisory assistance to the democratic FRY opposition; developing programs with NGOs for the delivery of humanitarian assistance through new distribution mechanisms that are independent of Belgrade regime control; and technical assistance, training grants, and exchanges designed to benefit opposition-controlled municipalities.

The Secretary noted that, “ Our bilateral assistance promotes Dayton and an integrated Bosnia. Recipients of U.S. assistance must state in writing their support for Dayton and then act accordingly. Our assistance has promoted the growth of pro-Dayton parties in the RS, development of independent media, minority returns, privatization and market-oriented reform, increased minority representation in the RS police force, and efforts to investigate corruption and curb police abuse.

The promotion of independent media and pro-democracy NGOs has a special significance in the aftermath of the Kosovo conflict. The Milosevic regime in Belgrade has an interest in ensuring that no pro-Western governments can survive in areas of predominantly Serb population. RS authorities have demonstrated their readiness to ensure freedom of movement for members of opposition political parties and the independent media from Serbia. The response from the Belgrade regime has been to curb dissemination of democratically-oriented media from the RS into Serbia and to issue threats against representatives of the RS government.

Section 566 requires publication of a listing and justification of any assistance that is obligated for any country, entity, or canton to which assistance restrictions apply, including a description of the purpose of the assistance project and its location, by municipality.

The following data are for funds obligated during April-July 2000. Locality data are provided where feasible. However, U.S. assistance in Bosnia, including Republika Srpska has largely shifted from physical reconstruction projects to provision of technical assistance and promotion of political and economic reform. As indicated below, assistance in Serbia is geared toward increasing capabilities of political opposition parties and the independent media. U.S. bilateral aid implementers apply strict screening procedures to ensure that aid beneficiaries, whether of business credits or technical assistance, are firms or organizations in which war crimes indictees have no material influence or interest.

USAID: Bosnia/Republika SRPSKA

The following list gives, in order, Date of Obligation, Amount of Obligation, Project Number , Project Title, Description of Activity, Justification of Assistance, Location.

4/04/00. $549,916. 180-0021. Political and Social Process. Voter Education Assistance.Throughout Bosnia-Herzegovina (includes RS)

4/04/00. $109,000. 180-0021. Political and Social Process. Electoral polling in support of April municipal elections. Throughout Bosnia-Herzegovina (includes RS)

4/19/00. $65,000. 180-0021. Political and Social Process. Support political resource center to service candidates and parties. Visegrad (RS).

5/2/00. $2,721,834. 180-0056. Bosnia Reconstruction Finance. Technical assistance to the business development program, to support loan program to private enterprises. Throughout RS, with emphasis on US SFOR AOR.

5/4/00. $3,501,249. 180-0014. Privatization & Enterprise Restructuring. Provide service delivery and management at selected banks. Supports development of private sector economy. Primarily Western RS in US—SFOR AOR.

5/12/00. $244,117. 180-0021. Political and Social Process. Grant with ABA/CEELI. Improve management of court system. RS wide.

5/17/00. $3,000,000. 180-0014. Privatization & Enterprise Restructuring. Provide technical assistance and training in international accounting and audit standards. Supports development of private sector economy. Primarily Western RS in US—SFOR AOR.

5/25/00. $400,000. 180-0014. Privatization & Enterprise Restructuring. Conducting financial verification of payments bureaus. Supports international community priority of shutting down payments bureau system by December 2000 and restructuring BiH financial system along Western lines. Throughout RS.

5/25/00. $489,957. 180-0019. Democratic Governance. Provision of technical assistance to managers and administrators. Supporting democratization. Throughout RS.

5/31/00. $4,643,917. 180-0022. Media Training. Technical assistance to independent electronic and print media. Federation and RS.

6/6/00. $502,193. 180-0032. NGO Development. Strengthen civil society by facilitating NGO development through training and technical assistance. Federation and RS.

USAID: Serbia

5/1/00. $995,556. 180-0021. Political and Social Process. Political party development. Economic program development; for use in opposition election campaigns and to guide polices once the political opposition is elected to office.

5/10/00. $990,131. 180-0021. Political and Social Process. Political party development; increase cohesiveness and electoral outreach capabilities of democratic opposition parties.

5/15/00. $227,820. 180-0021. Political and Social Process. Political party development. Aims to increase cohesiveness and electoral outreach capabilities of democratic opposition parties.

5/24/00. $822,470. 180-0021. Political and Social Process. Political party development; increase cohesiveness and electoral outreach capabilities of democratic opposition parties.

6/5/00. $500,000. 180-0020. Rule of Law. Work with legal community toward a more democratic legal framework. Goal: improve legal system that sustains democratic process.

6/22/00. $1,100,000. 180-0021 and 180-0032. Political and Social Process; NGO Development. Political campaign training and vote mobilization activities; develop social and political advocacy capabilities of NGOs. Goals: Increase electoral capabilities of opposition parties; strengthen NGO role in democratic process.

6/29/00. $1,000,000. 180-0021. Political and Social Process. Elections Program: Increase electoral capabilities of opposition parties through more effective civil society training and advocacy.

7/11/00. $629,460. 180-0032. NGO Development. Use telecottage concept to facilitate information sharing. Goal: Strengthen advocacy capabilities of civil society.

7/14/00. $7,767,480. 180-0022. Independent Media. Training and direct material assistance to improve capabilities of independent media.

FOR FURTHER INFORMATION CONTACT: Office of the SEED Coordinator, Department of State, 2101 C St NW, Washington, DC 20521, 202-647-0853.

Dated: October 5, 2000.
Larry C. Napper,
Coordinator for East European Assistance, U.S. Department of State.

[FR Doc. 00-25784 Filed 10-5-00; 8:45 am]

BILLING CODE 4710-23-P